FEDERAL COMMUNICATIONS COMMISSION

47 CFR Part 73

[DA 02-2215, MB Docket No. 02-94, RM-10423]

Digital Television Broadcast Service; Athens, GA

AGENCY: Federal Communications Commission.

ACTION: Correcting amendment.

SUMMARY: The Federal Communications Commission published in the Federal Register of August 9, 2002, (67 FR 51769), a document changing the DTV Table of Allotments to reflect the substitution of DTV channel *12c for DTV channel *22 at Athens, Georgia. However, DTV channel *12c was inadvertently published without the “c” designation. This document corrects that amendment contained in section 73.622(b) of the Commission's Rules.

DATES: Effective September 3, 2002.

FOR FURTHER INFORMATION CONTACT: Pam Blumenthal, Media Bureau, (202) 418-1600.

SUPPLEMENTARY INFORMATION:

Background

The FCC published a document in the Federal Register of August 9, 2002, (67 FR 51769) removing DTV channel *22 and adding DTV channel *12c at Athens, Georgia. DTV channel *12 was inadvertently published in lieu of DTV channel *12c at Athens, Georgia. This correction removes DTV channel *12 and adds DTV channel *12c.

Need for Correction

As published, the final regulations contain an error, which may prove to be misleading, and needs to be clarified.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under Georgia, is amended by removing DTV channel *12 and adding DTV channel *12c at Athens.

Federal Communications Commission.
Barbara A. Kreisman,
Chief, Video Division, Media Bureau.

[FR Doc. 02-25572 Filed 10-7-02; 8:45 am]

BILLING CODE 6712-01-P